NUCLEAR REGULATORY COMMISSION

[Docket No. 50-341]

Detroit Edison Company; Notice of Withdrawal of Application for Amendment to Facility Operating License

The U.S. Nuclear Regulatory Commission (the Commission) has granted the request of the Detroit Edison Company (the licensee) to withdraw its March 17, 2005, application for proposed amendment to Facility Operating License No. NPF-43 for Fermi 2, located in Monroe County, Michigan.

The proposed amendment would have revised the facility technical specifications (TSs) pertaining to TS 3.3.6.1, “Primary Containment Isolation Instrumentation,” to correct a formatting error introduced during conversion to Improved Technical Specifications by replacing “1” per room with “2” per room for the required channels per trip system for the reactor water cleanup area ventilation differential temperature high primary containment isolation instrumentation.

The Commission had previously issued a Notice of Consideration of Issuance of Amendment published in the Federal Register on April 26, 2005 (70 FR 21449). However, by letter dated January 31, 2006, the licensee withdrew the proposed change.

For further details with respect to this action, see the application for amendment dated March 17, 2005, and the licensee's letter dated January 31, 2006, which withdrew the application for license amendment. Documents may be examined, and/or copied for a fee, at the NRC's Public Document Room (PDR), located at One White Flint North, Public File Area 01 F21, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated at Rockville, Maryland, this 7th day of March, 2006.
For the Nuclear Regulatory Commission.
David H. Jaffe,
Sr. Project Manager, Plant Licensing Branch III-1, Division of Operating Reactor Licensing, Office of Nuclear Reactor Regulation.

[FR Doc. E6-3717 Filed 3-14-06; 8:45 am]

BILLING CODE 7590-01-P